DEPARTMENT OF HEALTH AND HUMAN SERVICES

Health Resources and Services Administration

Advisory Committee on Organ Transplantation; Notice of Meeting

AGENCY: Health Resources and Services Administration, HHS.

ACTION: Notice; correction.

SUMMARY: The Health Resources and Services Administration published a notice in the Federal Register of February 9, 2011 (76 FR 7223-7224) announcing an Advisory Committee on Organ Transplantation meeting on March 8, 2011. The type of meeting, time and place have been changed.

Correction

In the Federal Register of February 9, 2011, in FR Doc. 2011-2839, on page 7223, 2nd column, under the heading Department of Health and Human Services, Health Resources and Services Administration, Advisory Committee on Organ Transplantation; Notice of Meeting, change the Times and Place to read:

The meeting will be an Audio Conference Call on March 8, 2011, from 12 noon to 4 p.m. EST. To access the conference call, call the USA Toll Free Number 888-469-1090 and enter the Passcode 2741198. The conference call leader is Patricia A. Stroup. Participants should call no later than 11:45 a.m. EST in order for logistics to be set up. Participants are asked to register for the conference call by contacting Brittany Carey, HRM/Professional and Scientific Associates (PSA), the logistical support contractor for the meeting, at (703) 889-9033 or b_carey@team-psa.com. The registration deadline is March 7, 2011. The Department will try to accommodate those wishing to participate in the call.

The next face-to-face ACOT meeting is planned for August 2011. Details regarding an August meeting will be published in a subsequent Federal Register notice.

Reva Harris,
Acting Director, Division of Policy and Information Coordination.

[FR Doc. 2011-4755 Filed 3-2-11; 8:45 am]

BILLING CODE 4165-15-P